DEPARTMENT OF THE INTERIOR

Geological Survey

National Earthquake Prediction Evaluation Council

AGENCY: U.S. Geological Survey.

ACTION: Notice of meeting.

SUMMARY: Pursuant to Public Law 96-472, the National Earthquake Prediction Evaluation Council (NEPEC) will hold a meeting on October 16 and 17, 2006. The meeting location is University of California, Engineering Building Unit, Room 205-206, 900 University Avenue, Riverside, California 92521. The Council is comprised of members from academia and the Federal government. The Council shall advise the Director of the U.S. Geological Survey (USGS) on proposed earthquake predictions, on the completeness and scientific validity of the available data related to earthquake predictions, and on related matters as assigned by the Director.

At this meeting, the Council will discuss recent findings of the Working Group on California Earthquake Probabilities; will hear presentations on statistical tests being applied to prediction algorithms under the Regional Earthquake Likelihood Models project and on the organizational structure of the Center for Study of Earthquake Predictability; and will edit a draft document that provides guidelines to researchers on posing earthquake predictions in a rigorous and testable manner.

Meetings of the National Earthquake Prediction Evaluation Council are open to the public. A portion of the meeting will be closed to the public pursuant to subsections (c)(2), and (6) of subsection 552b of Title 5, U.S. Code. Those planning to attend the meeting may contact Dr. Michael Blanpied, the Executive Secretary for the NEPEC [U.S. Geological Survey, MS 905, 12201 Sunrise Valley Dr., Reston, Virginia 20192, e-mail mblanpied@usgs.gov], in order to receive copies of the agenda and other materials in advance. It is the policy of the NEPEC to accept written public comments of any length and to accommodate brief oral comments whenever possible. Interested parties should contact Dr. Blanpied at least 5 days prior to the meeting. Individuals requiring special accommodations to access the meeting should also contact Dr. Blanpied so that appropriate arrangements can be made.

DATES: October 16, 2006, commencing at 10:30 a.m. and adjourning at or before 2 p.m. on October 17, 2006.

FOR FURTHER INFORMATION CONTACT: Dr. Michael Blanpied, U.S. Geological Survey, MS 905, 12201 Sunrise Valley Drive, Reston, Virginia 20192, (703) 648-6696, mblanpied@usgs.gov.

Dated: October 2, 2006.
Rama Kotra,
Acting Associate Director for Geology.

[FR Doc. 06-8669 Filed 10-13-06; 8:45 am]

BILLING CODE 4311-AM-M